DEPARTMENT OF AGRICULTURE

Agricultural Marketing Service

[Doc. # AMS-CN-13-0034]

Notice of Meeting of Advisory Committee on Universal Cotton Standards

AGENCY: Agricultural Marketing Service, USDA.

ACTION: Notice of public meeting.

SUMMARY: In accordance with the Federal Advisory Committee Act, as amended, (5 U.S.C. App.), the Agricultural Marketing Service (AMS) is announcing an upcoming meeting of the Advisory Committee on Universal Cotton Standards (Committee). The Committee is being convened to recommend to the Secretary of Agriculture any changes considered necessary to the Universal Cotton Standards and to review freshly prepared sets of Universal Cotton Standards for conformity with existing standards.

DATES: The meeting dates are June 19-21, 2013. The meeting will convene on Wednesday, June 19th, from 1:00 p.m. to 3:30 p.m. On Thursday, June 20, the meeting will continue from 9:00 a.m. to 5:00 p.m., and on Friday, June 21st meetings will take place from 9:00 a.m. until the completion of the review. The deadline to submit written public comments is June 11, 2013.

ADDRESSES: The June 19th meeting will take place at the Raleigh Marriott Crabtree Valley, 4500 Marriott Drive, Raleigh, North Carolina 27612. Meetings will re-convene on the morning of June 20th at the Raleigh Marriott Crabtree Valley before relocating to the offices of Cotton Incorporated, 6399 Weston Parkway, Cary, North Carolina 27513 in the afternoon. On the morning of June 21st, meetings re-convene at the offices of Cotton Incorporated. Information and instructions pertaining to the meeting are posted at the following Web address: http://www.ams.usda.gov/AMSv1.0/AdvisoryCommitteeonUniversalStandards.

FOR FURTHER INFORMATION CONTACT: James Knowlton, Standardization and Engineering Division, Cotton and Tobacco Programs, AMS, USDA, 3275 Appling Road, Memphis, Tennessee 38133; Phone: (901) 384-3030; Fax (901) 384-3032; Email: james.knowlton@ams.usda.gov.

SUPPLEMENTARY INFORMATION: The Advisory Committee on Universal Cotton Standards includes representatives of all segments of the U.S. cotton industry and the 22 international associations that are signatories to the Universal Cotton Standards Agreement, which is authorized under the United States Cotton Standards Act (U.S.C. 51-65). The purpose of these meetings is: (1) To recommend to the Secretary of Agriculture any changes considered necessary to the Universal Standards; and (2) to review freshly prepared sets of Universal Cotton Standards for conformity with existing standards.

The meeting will be open to the public. The meeting agenda for June 19th includes presentations of proposed standard for High Volume Instrument (HVI) trash measurements and amendments to the Universal Cotton Standards Agreement. A formal meeting of the Committee will take place on the morning of June 20th, and presentations by invited speakers will be made and formal committee action will take place. On the afternoon of June 20th, committee members will review the 1986 original set and reserve sets of standard guide boxes for authenticity. New standard guide boxes will then be matched and approved on June 21st. The final meeting agenda may be viewed at http://www.ams.usda.gov/AMSv1.0/AdvisoryCommitteeonUniversalStandards on June 18, 2013.

Public Comments: Written comments for the Committee's consideration will be accepted through Tuesday, June 11, 2013 via www.regulations.gov. Comments received after that date may not be reviewed by the Committee before the meeting. AMS strongly prefers comments to be submitted electronically; however, written comments may also be submitted by Tuesday, June 11, 2013 via mail to Mr. James Knowlton, Standardization and Engineering Division, Cotton and Tobacco Programs, AMS, USDA, 3275 Appling Road, Memphis, Tennessee 38133. Instructions for viewing all comments are posted at www.regulations.gov.

Meeting Accommodations: The meeting hotel and Cotton Incorporated Offices are ADA compliant, and the USDA provides reasonable accommodation to individuals with disabilities where appropriate. If you need a reasonable accommodation to participate in this public meeting, please notify James Knowlton at james.knowlton@ams.usda.gov or (901) 384-3030. Determinations for reasonable accommodation will be made on a case-by-case basis.

Dated: May 14, 2013.
Rex A. Barnes,
Associate Administrator, Agricultural Marketing Service.

[FR Doc. 2013-11822 Filed 5-16-13; 8:45 am]

BILLING CODE 3410-02-P